DEPARTMENT OF TRANSPORTATION

Maritime Administration

[Docket No. MARAD-2002-13701]

Information Collection Available for Public Comments and Recommendations

ACTION: Notice and request for comments.

SUMMARY: In accordance with the Paperwork Reduction Act of 1995, this notice announces the Maritime Administration's (MARAD's) intentions to request extension of approval for three years of a currently approved information collection.

DATES: Comments should be submitted on or before January 6, 2003.

FOR FURTHER INFORMATION CONTACT: Richard Walker, Maritime Administration, MAR-810, 400 7th Street, SW., Washington, DC 20590. Telephone: 202-366-5076, FAX: 202-366-6988 or E-MAIL: richard.walker@marad.dot.gov. Copies of this collection can also be obtained from that office.

SUPPLEMENTARY INFORMATION: Title of Collection: Inventory of American Intermodal Equipment.

Type of Request: Extension of currently approved information collection.

OMB Control Number: 2133-0503.

Form Numbers: None.

Expiration Date of Approval: Three years from date of approval by Office of Management and Budget.

Summary of Collection of Information: This collection consists of an intermodal equipment inventory that provides data essential to both the government and the transportation industry in planning for the most efficient use of intermodal equipment. Further, this collection is intended to assure that containers and related intermodal equipment are obtainable in the event of a national emergency.

Need and Use of the Information: The information contained in the inventory provides data about U.S.-based companies that own or lease intermodal equipment and is essential to both government and industry in planning for contingency operations.

Description of Respondents: Owners of U.S. steamship and intermodal equipment leasing companies.

Annual Responses: 22.

Annual Burden: 66 hours.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

By Order of the Maritime Administrator.
Dated: October 29, 2002.
Joel C. Richard,
Secretary, Maritime Administration.

[FR Doc. 02-28087 Filed 11-4-02; 8:45 am]

BILLING CODE 4910-81-P